DEPARTMENT OF THE INTERIOR

Bureau of Ocean Energy Management

Bureau of Safety and Environmental Enforcement

Notice of Availability of Draft Programmatic Environmental Assessment for BSEE Permitted Activities in the Southern California Planning Area 189E1700D2, ET1EE0000.PSB000, EEJJ000000

AGENCIES: Bureau of Ocean Energy Management (BOEM), Interior; and Bureau of Safety and Environmental Enforcement (BSEE), Interior.

ACTION: Notice of Availability

SUMMARY: The Bureau of Ocean Energy Management (BOEM) and Bureau of Safety and Environmental Enforcement (BSEE) have prepared a Draft Programmatic Environmental Assessment (PEA) to evaluate the potential environmental effects of reviewing and approving new applications for well drilling, conductor installation, temporary well abandonment, and other permitted downhole activities at platforms on existing leases on the Pacific OCS.

DATES: Comments on this Draft PEA will be accepted until September 21, 2018.

FOR FURTHER INFORMATION CONTACT: For more information on the Draft PEA, you may contact Mr. Rick Yarde, Regional Supervisor, Office of Environment Pacific Region, BOEM, (805) 384-6379 or Mr. David Fish, Chief Environmental Compliance Division, BSEE, (703) 787-1567.

SUPPLEMENTARY INFORMATION: This Notice of Availability is published pursuant to the regulations (40 CFR part 1503) implementing the provisions of the National Environmental Policy Act (NEPA) of 1969, as amended, (42 U.S.C. 4321 et seq. (1988)). To obtain a copy of the Draft PEA:

1. You may download or view the Draft PEA on the following website: http://pocspermittingpea.evs.anl.gov

2. Hard copies of the Draft PEA may be obtained by contacting either Mr. Rick Yarde or Mr. David Fish.

COMMENTS: Government agencies and other interested parties are requested to send their written comments on the Draft PEA in one of the following ways:

1. Preferred: Submit your comment on the project's public review website at: http://pocspermittingpea.evs.anl.gov

2. In an envelope labeled “Comments on the Draft PEA for BSEE Permitted Activities in the Southern California Planning Area” and mailed (or hand carried) to Mr. Rick Yarde, Regional Supervisor, Office of Environment Pacific Region, Bureau of Ocean Energy Management, 760 Paseo Camarillo, Suite 102 (CM102), Camarillo, CA 93010; or Mr. David Fish, Chief Environmental Compliance Division, Bureau of Safety and Environmental Enforcement, 45600 Woodland Road, VAE-ECD, Sterling, VA 20166.

Comments must be submitted by September 21, 2018.

Public Disclosure of Names and Addresses

Before including your address, phone number, email address or other personal identifying information in your comment, be advised that your entire comment, including your personal identifying information, may be made publicly available at any time. While you can ask us in your comment to withhold from public review your personal identifying information, we cannot guarantee that we will be able to do so. The Bureaus will not consider anonymous comments, and the Bureaus will make available for inspection, in their entirety, all comments submitted by organizations or businesses or by individuals identifying themselves as representatives of organizations or businesses.

Dated: August 9, 2018.
Walter D. Cruickshank,
Acting Director, Bureau of Ocean Energy Management.
Dated: August 9, 2018.
Scott A. Angelle
Director, Bureau of Safety and Environmental Enforcement.

[FR Doc. 2018-18107 Filed 8-21-18; 8:45 am]

BILLING CODE 4310-VH-P